DEPARTMENT OF HEALTH AND HUMAN SERVICES

Indian Health Service

Youth Regional Treatment Center Aftercare Program

Announcement Type: New.

Funding Announcement Number: HHS-2023-IHS-YRTC-0001.

Assistance Listing (Catalog of Federal Domestic Assistance or CFDA) Number: 93.654.

Key Dates

Application Deadline Date: September 19, 2022.

Earliest Anticipated Start Date: October 4, 2022.

I. Funding Opportunity Description

Statutory Authority

The Indian Health Service (IHS) is accepting applications for a cooperative agreement for Youth Regional Treatment Center Aftercare Programs (Short Title: Youth Aftercare). This program is authorized under the Snyder Act, 25 U.S.C. 13; the Transfer Act, 42 U.S.C. 2001(a); and the Indian Health Care Improvement Act, 25 U.S.C. 1665a and 1665g. This program is described in the Assistance Listings located at https://sam.gov/content/home (formerly known as the CFDA) under 93.654.

Background

As a whole, the American Indian and Alaska Native (AI/AN) population is notably young, as 20.3 percent are youth, compared to the 16.6 percent of the non-AI/AN population. Among the total 2.3 million AI/AN youth, 46.7 percent are adolescents, 12 to 17 years of age, and 53.3 percent are young adults, 18 to 24 years of age. For purposes of examining youth outcomes, DBH applies the total youth age range, 12 to 24 years, for consistency with Tribal, Federal, and United Nations standards. For purposes of this effort, Youth Regional Treatment Centers (YRTCs) serve youth according to ages that their facilities are allowed to admit. There are multiple indicators that the behavioral health treatment requirements for AI/AN youth are unaddressed at this time. As one example, according to the CDC, as of 2020, AI/AN adolescent and young adult suicide rates have reached all-time highs. The suicide rate for youth, 15 to 24 year olds, is now 24.6 per 100,000; 1.9 times higher than the average of their non-AI/AN peers.

Meanwhile, AI/AN youth continue to experience an unprecedented crisis of unaddressed behavioral health treatment needs and requirements. The persistent risk is due to many personal and community factors, as well as notable structural factors, which undermine the development of an appropriately-fitted continuum of care (CoC) for AI/AN youth. As of 2021, the Division of Behavioral Health (DBH) completed an evaluation of a pilot Youth Aftercare project with one Tribal and one Federal YRTC. The pilot evaluation, Evaluation of the Youth Regional Treatment Center Aftercare Pilot Project, revealed an urgent need for examining the CoC and its effects on long-term outcomes among youth. The pilot evaluation was provided to all twelve YRTCs for their review before publication, as it provides a framework for planning the future AI/AN youth CoC, and the objectives of this effort. The goal in reframing the CoC is to address treatment efficacy, operational efficiency, and organizational suitability to optimally affect the physical, psychological, spiritual, cultural, familial, and social factors that sustain safety, sobriety, and employability outcome goals.

This program will support DBH and the YRTCs efforts to develop and sustain a CoC that fully supports explicit, measurable outcomes of safety, sobriety, and employability among AI/AN youth after discharge from a YRTC. The benefit of focusing on employability includes the array of factors that affirm whole-person wellness, community engagement, long-term contributions of the individual back to the community, and the therapeutic experience of developing, testing, and generalizing personal capabilities.

Purpose

The goal of the Youth Aftercare cooperative agreement is to help AI/AN youth pursue and sustain safety, sobriety, and employability after release from a YRTC. While aftercare support services may not exist in a youth's home community, the YRTC can lead the development of effective aftercare methods. The YRTC Aftercare cooperative agreement awardee (“awardee”) will pursue the above stated goal in each AI/AN client who separates from their respective YRTCs. In addition to the stated goal, a focus of this funding opportunity is to understand and overcome aftercare management and performance barriers that affect the capacity of YRTCs and the IHS to develop effective and responsive solutions within the scope of the AI/AN Youth CoC, given AI/AN youth's behavioral health treatment requirements.

In alignment with the IHS 2019-2023 Strategic Plan Goal 1: To ensure that comprehensive, culturally appropriate personal and public health services are available and accessible to AI/AN people, the awardees will work closely with community-based services/programs to strengthen partnerships that affect youths' ability to use coordinated services within their CoC. The awardee will examine and monitor its operational requirements, such as staffing, data collection, case coordination tools, and communication tools to readily inform the IHS of changing requirements and challenges. Such examinations may require engagements with the IHS, technical advisors, or others who can provide suitable analyses and planning with the YRTCs.

The IHS will award funding for the provision of aftercare services for two YRTCs, which are operated by either a Tribe or a Tribal Organization.

Required Activities

The awardee is required to (1) design inpatient case management plans that focus on achieving the whole scope of treatment objectives and outcomes that will be addressed within the inpatient and Aftercare Domain (i.e., Outpatient Therapy, Independent Aftercare, and Personal Efficacy Programs) described in the pilot evaluation report; (2) establish and sustain a full-time aftercare coordinator; (3) coordinate and communicate with aftercare clients their specific post-inpatient therapeutic service plans, and their appropriate use of such services within the scope of whole-person wellness goals; (4) arrange or provide counseling and coaching (in-person and/or remote) to the client to help develop measurable improvements in clients' personal efficacy in achieving goals; (5) reinforce the appropriate treatment engagement and services specific to each client; (6) cooperate with the IHS to test technologies that may support the data and therapy communication that supports the program goal; (7) track the content and effort in communications between the client and the community resources to increase success of referrals and sustain active and clear partnerships with the community or other service entities; and (8) work with the IHS to collect and report data that accurately describes the progress of the client throughout their aftercare, a minimum of 12 months, and in support of cooperative annual program evaluations. The awardee may pursue activities not stated here, as they align with the AI/AN Youth Behavioral Health Continuum of Care Protocols, described in the pilot aftercare evaluation.

II. Award Information

Funding Instrument—Cooperative Agreement

Estimated Funds Available

The total funding identified for fiscal year (FY) 2023 is approximately $1,200,000. Individual award amounts for the first budget year are anticipated to be $600,000. The funding available for competing and subsequent continuation awards issued under this announcement is subject to the availability of appropriations and budgetary priorities of the Agency. The IHS is under no obligation to make awards that are selected for funding under this announcement.

Anticipated Number of Awards

The IHS anticipates issuing two awards under this program announcement.

Period of Performance

The period of performance is for 5 years.

Cooperative Agreement

Cooperative agreements awarded by the Department of Health and Human Services (HHS) are administered under the same policies as grants. However, the funding agency, IHS, is anticipated to have substantial programmatic involvement in the project during the entire period of performance. Below is a detailed description of the level of involvement required for the IHS.

Substantial Agency Involvement Description for Cooperative Agreement

The IHS DBH will monitor the overall progress of the awardee's execution of the requirements of the award as well as their adherence to the terms and conditions of the cooperative agreement. The IHS will collaborate with awarded YRTCs to develop and refine an AI/AN Youth Behavioral Health Continuum of Care Protocol, including the use of potential methods and technologies that reinforce success in aftercare practices. This includes providing guidance for required reports, planning or developing tools and other service or technology products, reviewing evidence of design efficacy, interpreting program findings, assisting with evaluations, site visits, and overcoming difficulties or performance issues encountered.

III. Eligibility Information

1. Eligibility

To be eligible for this funding opportunity, an applicant must be a current, IHS-funded YRTC, operated by one of the following as defined by 25 U.S.C. 1603:

• A federally recognized Indian Tribe as defined by 25 U.S.C. 1603(14). The term “Indian Tribe” means any Indian Tribe, band, nation, or other organized group or community, including any Alaska Native village or group or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in section 4 of the Indian Self-Determination and Education Assistance Act (25 U.S.C. 5304(l)): “Tribal organization” means the recognized governing body of any Indian Tribe; any legally established organization of Indians which is controlled, sanctioned, or chartered by such governing body or which is democratically elected by the adult members of the Indian community to be served by such organization and which includes the maximum participation of Indians in all phases of its activities: provided that, in any case where a contract is let or grant made to an organization to perform services benefiting more than one Indian Tribe, the approval of each such Indian Tribe shall be a prerequisite to the letting or making of such contract or grant. Applicant shall submit letters of support and/or Tribal Resolutions from the Tribes to be served.

The program office will notify any applicants deemed ineligible.

Note: Please refer to Section IV.2 (Application and Submission Information/Subsection 2, Content and Form of Application Submission) for additional proof of applicant status documents required, such as Tribal Resolutions, proof of nonprofit status, etc.

2. Cost Sharing or Matching

The IHS does not require matching funds or cost sharing for grants or cooperative agreements.

3. Other Requirements

Applications with budget requests that exceed the highest dollar amount outlined under Section II Award Information, Estimated Funds Available, or exceed the period of performance outlined under Section II Award Information, Period of Performance, are considered not responsive and will not be reviewed. The Division of Grants Management (DGM) will notify the applicant.

Additional Required Documentation

Tribal Resolution

The DGM must receive an official, signed Tribal Resolution prior to issuing a Notice of Award (NoA) to any Tribe or Tribal organization selected for funding. An applicant that is proposing a project affecting another Indian Tribe must include resolutions from all affected Tribes to be served. However, if an official signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official signed Tribal Resolution to the GMS. If the signed Tribal Resolution is not received within 90 days, the award will be forfeited.

Applicants organized with a governing structure other than a Tribal council may submit an equivalent document commensurate with their governing organization.

Proof of Nonprofit Status

Organizations claiming nonprofit status must submit a current copy of the 501(c)(3) Certificate with the application.

IV. Application and Submission Information

Grants.gov uses a Workspace model for accepting applications. The Workspace consists of several online forms and three forms in which to upload documents—Project Narrative, Budget Narrative, and Other Documents. Give your files brief descriptive names. The filenames are key in finding specific documents during the objective review and in processing awards. Upload all requested and optional documents individually, rather than combining them into a package. Creating a package creates confusion when trying to find specific documents. Such confusion can contribute to delays in processing awards, and could lead to lower scores during the objective review.

1. Obtaining Application Materials

The application package and detailed instructions for this announcement are available at https://www.Grants.gov.

Please direct questions regarding the application process to DGM@ihs.gov.

2. Content and Form Application Submission

Mandatory documents for all applicants include:

• Application forms:

1. SF-424, Application for Federal Assistance.

2. SF-424A, Budget Information—Non-Construction Programs.

3. SF-424B, Assurances—Non-Construction Programs.

4. Project Abstract Summary form.

• Project Narrative (not to exceed 10 pages). See Section IV.2.A, Project Narrative for instructions.

• Budget Narrative (not to exceed five pages). See Section IV.2.B Budget Narrative for instructions.

• Timeline for first year only (one page).

• Work Plan for first year only.

• Tribal Resolution or Tribal Letter (only required for Tribes and Tribal organizations).

• Letter(s) of Commitment:

1. Local Organizational Partners;

2. Community Partners, as needed to meet objectives;

3. For Tribal organizations: from the board of directors (or relevant equivalent);

4. For UIOs: from the board of directors (or relevant equivalent).

• 501(c)(3) Certificate (if applicable).

• Biographical sketches for all key personnel (not to exceed one page each).

• Organizational Chart (one page).

• Contractor/Consultant resumes or qualifications and scope of work.

• Disclosure of Lobbying Activities (SF-LLL), if applicant conducts reportable lobbying.

• Certification Regarding Lobbying (GG-Lobbying Form).

• Copy of current Negotiated Indirect Cost rate (IDC) agreement (required in order to receive IDC).

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 10 pages and must: (1) have consecutively numbered pages; (2) use black font 12 points or larger (applicants may use 10 point font for tables); (3) be single-spaced; (4) and be formatted to fit standard letter paper (8½ x 11 inches). Do not combine this document with any others.

Be sure to succinctly answer all questions listed under the evaluation criteria (refer to Section V.1, Evaluation Criteria) and place all responses and required information in the correct section noted below or they will not be considered or scored. If the narrative exceeds the overall page limit, the application will be considered not responsive and will not be reviewed. The 10-page limit for the project narrative does not include the work plan, standard forms, Tribal Resolutions, budget, budget narratives, and/or other items. Page limits for each section within the project narrative are guidelines, not hard limits.

There are four parts to the project narrative:

Part 1—Statement of Need

Part 2—Program Plan (Objectives and Activities)

Part 3—Organizational Capacity

Part 4—Program Evaluation (Data Collection and Reporting)

See below for additional details about what must be included in the narratives. The page limits below are for each narrative and budget submitted.

Part 1: Statement of Need (Limit—2 Pages)

The statement of need describes the history and catchment area currently served by the applicant, including Tribal communities (“community” means the applicant's Tribe, village, Tribal organization, or consortium of Tribes and/or Tribal organizations). The statement of need provides the facts and evidence that support the need for the project and establishes that the YRTC understands the problems related to the scope and gaps in aftercare services and can reasonably address gaps through specific methods. For additional information regarding the statement of need, refer to Section V.1.A, Statement of Need.

Part 2: Program Plan (Objectives and Activities) (Limit—4 Pages)

State the purpose, goals, and objectives of your proposed project. Clearly state how proposed activities address the needs detailed in the statement of need. Describe fully and clearly the applicant's plans to meet the seven required activities in section “Required Activities.” For additional information regarding program planning, refer to Section V.1.B, Program Plan (Objectives and Activities).

Part 3: Organizational Capacity (Limit—2 Pages)

This section should describe your organization's significant program activities and accomplishments over the past three years that are related to the purpose and goals of this program. Current staffing levels should also be outlined. Any possible future staff functions (specifically if funded under this award) should be justified based on functional need or deficit. Include an organizational chart that describes the capacity of your organization. For additional information regarding organizational capacity, refer to Section V.1.C, Organizational Capacity.

Part 4: Program Evaluation (Data Collection & Reporting) (Limit—2 Pages)

This section of the project narrative should describe your organization's plan for gathering local and client-specific non-identifiable data, submitting data requirements, and documenting the applicant's ability to ensure accurate digital data collection and reporting on youth's aftercare experiences that will support and demonstrate YRTC Aftercare Program activities. Reporting elements from the aftercare programs will pertain to activities, processes, barriers, and outcomes, as described in the background of this announcement. Include any partners who will assist in evaluation efforts if separate from the primary applicant.

For additional information regarding program evaluation, data collection, and reporting, refer to Section V.1.D, Program Evaluation (Data Collection & Reporting).

Awardees will work with the IHS to collect and report data that accurately describes the progress of the client throughout their aftercare, a minimum of 12 months, and in support of cooperative annual program evaluations. The data reports will include a semi-annual and annual report. The annual program evaluation will include meetings to discuss the data and its analysis, and investigate explanations of the data in support of program improvements.

B. Budget Narrative (Limit—5 Pages)

Provide a budget narrative that explains the amounts requested for each line item of the budget from the SF-424A (Budget Information for Non-Construction Programs) for the first year of the project. The applicant can submit with the budget narrative a more detailed spreadsheet than is provided by the SF-424A (the spreadsheet will not be considered part of the budget narrative). The budget narrative should specifically describe how each item will support the achievement of proposed objectives. Be very careful about showing how each item in the “Other” category is justified. For subsequent budget years (see Multi-Year Project Requirements in Section V.1, Application Review Information, Evaluation Criteria), the additional pages should highlight the changes from the first year or clearly indicate that there are no substantive budget changes during the period of performance. Do NOT use the budget narrative to expand the project narrative. For additional information regarding the budget narrative, refer to the Section V.1.E, Budget Narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.grants.gov). If problems persist, contact Mr. Paul Gettys (Paul.Gettys@ihs.gov), Deputy Director, DGM, by telephone at (301) 443-2114. Please be sure to contact Mr. Gettys at least 10 days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one cooperative agreement may be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. This contact must be initiated prior to the application due date or your waiver request will be denied. Prior approval must be requested and obtained from Mr. Paul Gettys, Deputy Director, DGM. You must send a written waiver request to DGM@ihs.gov with a copy to Paul.Gettys@ihs.gov. The waiver request must be documented in writing (emails are acceptable) before submitting an application by some other method, and must include clear justification for the need to deviate from the required application submission process.

If the DGM approves your waiver request, you will receive a confirmation of approval email containing submission instructions. You must include a copy of the written approval with the application submitted to the DGM. Applications that do not include a copy of the signed waiver from the Deputy Director of the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management (SAM)

Organizations that are not registered with SAM must access the SAM online registration through the SAM home page at https://sam.gov. United States (U.S.) organizations will also need to provide an Employer Identification Number from the Internal Revenue Service that may take an additional 2-5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number.

Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS recipients to report information on sub-awards. Accordingly, all IHS grantees must notify potential first-tier sub-awardees that no entity may receive a first-tier sub-award unless the entity has provided its UEI number to the prime awardee organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities; information for multi-year projects should be included as a separate document. See “Multi-year Project Requirements” at the end of this section for more information. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

Applications will be reviewed and scored according to the quality of responses to the required application components in the following Sections A-E. The number of points after each heading is the maximum number of points a review committee may assign to that section. Although scoring weights are not assigned to individual numbers, responses to each number are assessed in deriving the overall section score.

A. Statement of Need (20 Points)

1. Identify the proposed catchment area, which may include demographic information on the population(s) to receive services, e.g., race, ethnicity, federally recognized Tribe(s), socioeconomic status, or other relevant factors, such as substance use rates or health outcomes related to substance use.

2. Describe the organization's existing program as a tribally operated YRTC and what current treatment programs or services are currently being provided by the organization.

B. Program Plan (Objectives and Activities) (30 Points)

Describe the purpose of the proposed project, including a clear statement of goals and objectives, as it relates to the background and purpose described herein. Describe how the program's plan will support the eight required activities. Develop a work plan to serve as a formative guide that identifies the implementation and completion of key elements throughout the life of the project (described in the following numbers 1-4).

1. Develop aftercare case management and aftercare services and tools for youth that will transition from the YRTC and back into community living.

a. Provide ongoing services to youth by increasing partnerships with service providers and community programs at the community level. Please describe how home visits, site visits, or other community site engagement will be included in case management services.

b. Hire staff to provide YRTC aftercare coordination, or case management, that will establish individualized aftercare support plans for each youth exiting the facility.

c. Improve engagement with families and support systems of youth participating in a YRTC program, such as providing family-care engagement counseling, organizing community volunteers as coaches, or providing travel assistance for family members to increase participation during youth treatment and positive parenting curriculum to parents while their youth is in care and throughout post-treatment.

d. Work with DBH to explore opportunities to test and validate technology tools that support client coordination (e.g., engaging multiple contributors, integrating services, data collection) and safe self-care (e.g., prescribed online content, homework, mindfulness practices, and telehealth services).

2. Establish and formalize partnerships (e.g., MOA, MOU) with local, Tribal, state, and national programs to identify resources and provide a continuum of care for youth in recovery such as:

a. increase access to youth peer-to-peer support in partner community sites;

b. connect youth to peer recovery support specialists, recovery coaches, volunteer mentors from partner communities;

c. work with partner organizations to ensure successful implementation of the proposed project;

d. develop aftercare services, trainings, and practices for cultural competence;

e. identify and connect youth to appropriate academic and recovery supports through partnering educational systems and trainings for completion of academic and employment goals.

3. Based on the guidance in the background section of this announcement, develop aftercare policies, quality improvement measures, best practices, tools, and procedures that ensure and support successful implementation of the proposed project such as:

a. create and train in evidence-based care. This may include how to identify signs of relapse, how to identify signs of mental health distress, how to navigate community referral processes, and how to manage prescription drugs;

b. strengthen the YRTC's ongoing efforts to meet clients' safety and sobriety self-efficacy goals and employability through the support of aftercare treatment in serving AI/AN clients;

c. provide training to support facility compliance with required certifications/accreditations and ongoing improvements in quality, safety, and patient satisfaction;

4. Identify and implement best practices and tools (see Evaluation of the Youth Regional Treatment Center Aftercare Pilot Project, provided to all YRTCs by DBH) for increasing access to transitional services when the youth moves from the YRTC back to the youth's home community, such as:

a. patient intake, treatment, and aftercare evaluation, as a process that critically examines current aftercare programmatic efforts by collecting and analyzing data that identifies outcomes and serves as a framework for the work plan;

b. assistance with planning for education, referrals to coaches and other vetted volunteer programs, referrals for housing, accompanying youth to outpatient or other community services, accessing culturally appropriate interventions, consultation with employers, in-home evaluations of family or living situations, parenting support, and transitioning to adult services;

c. collect data on treatment progress and outcomes for youth at a minimum of quarterly intervals, as allowed by the period of performance and contact management with the youth;

d. develop, maintain, and collect comprehensive information on youth aftercare practices. This information should focus on evidence-based, promising, and best practices; service delivery; quality improvement; and innovation strategies; and

e. maintain open and consistent communication with the IHS program official on programmatic challenges for meeting the requirements of the award and requests for technical assistance (i.e., monthly calls with IHS and project staff etc.).

C. Organizational Capacity (20 Points)

1. Describe the management capability of the YRTC in administering similar cooperative agreements and projects.

2. Identify staff to maintain open and consistent communication with the IHS program official on any programmatic barriers to meeting the requirements of the award.

3. Identify the department/division that will administer this project. Include a description of this entity, its function, and its placement within the YRTC.

4. Discuss the experience and capacity to provide substantive, culturally appropriate, and competent services to the client, their family, and the communities served.

5. Describe the tools and resources available for the proposed project (e.g., facilities, equipment, information technology systems, and financial management systems).

6. Identify organization(s) that may participate in the proposed project. Describe their roles and responsibilities and demonstrate their commitment to the project. Include a list of these organizations as an attachment item to the application.

7. Describe how project continuity will be maintained if there is a change in the operational environment (e.g., staff turnover, change in project leadership, change in elected officials) to ensure project stability over the life of the grant.

8. Discuss the program business model and its service components in terms of sustainment opportunities and barriers.

9. Provide a list of staff positions for the project including project director, project coordinator/caseworker, and other key personnel, showing the role of each and their level of effort and qualifications. Demonstrate successful project implementation for the level of effort budgeted for the behavioral health staff, project director, project coordinator, and other key staff.

10. Include position descriptions as attachments to the application for the project director, project coordinator/caseworker, and all key personnel. Position descriptions should not exceed one page each.

11. For individuals that are currently on staff, include a biographical sketch for each individual listed as the behavioral health staff, project director, project coordinator, and other key positions. Describe the experience of identified staff who are working to address youth substance use disorder prevention, treatment, and aftercare. Include each biographical sketch as attachments to the project proposal/application. Biographical sketches should not exceed one page per staff member. Do not include any of the following:

a. Personally Identifiable Information;

b. Resumes; or

c. Curriculum Vitae.

D. Program Evaluation (Data Collection and Reporting) (20 Points)

Reporting on this evaluation plan will occur on a semi-annual basis. The IHS will work with grantees at the start of the period of performance to help develop and finalize a reporting and evaluation and performance measurement plan to monitor the progress of the activities implemented, gaps in activities that need to be addressed (based on guidance in the Background section), and outcomes achieved. The IHS will work with the awardees to ensure consistent and integrated data collection, in order to optimize the reporting effort within a semi-annual reporting schedule.

1. Describe proposed data collection capacities in support of ongoing performance measurement and periodic program evaluation. This description should address data collection methods, data sources, data measurement tools, staff roles in data collection and management, and a data collection timeline. The major data categories include (a) prevalence of problems to address; (b) expected effects of service protocols and innovations through interpersonal and technological methods; (c) costs of service providers, training, organization, tools, and resources; (d) expected service competencies by training; (e) scope and frequency of service actions by recipient groups; (f) changes in recipients' perspectives, behaviors, and status (e.g., safety, sobriety, employability); (g) observed gaps in services, competencies, or capabilities; and (h) changes in community-wide practices and plans. Relevant measures would include those that indicate trends in the above categories. Client impacts should be measured on consistent quarterly intervals, such as 3, 6, 9, and 12 months. Other relevant pre-treatment descriptive data would include client protective and risk status in terms of family, years of alcohol or substance use, and associated mentoring, detention, or other notable experiences.

2. Identify the key data collection partners and describe how they will participate in the implementation of the performance management and evaluation plan, even if their work is parallel to the project and not funded by the IHS (e.g., Tribal Epidemiology Centers, local Tribal health boards, universities, consultants, etc.).

3. Describe training, data collection, and evaluation of any competencies that will be monitored and validated among staff, such as the application of counseling or coaching services based on cultural and spiritual competencies.

4. Describe data collection and program reviews that will address key issues in the evaluation of the services provided, focused on the improvement and sustainability of the program. Relevant issues include changes in capabilities for collecting data, analyzing data, monitoring operations, meeting program improvement and sustainment goals, achieving desirable impacts for clients, and sustaining effective services in the future.

5. Discuss any barriers or challenges expected for implementing the plan or collecting relevant data that IHS should monitor to support the program (e.g., adopting performance measures, recruiting and training staff, participating in technology testing, or participating in evaluation efforts).

6. Describe how the applicant plans to overcome potential barriers. In addition, applicants may describe other measures to be developed or additional data sources and data collection methods that applicants will use.

E. Budget Narrative (10 Points)

1. Based on the budget line items, describe the reasonable and allowable costs necessary to accomplish the goals and objectives as outlined in the project narrative for budget year one only.

2. Applicants should ensure that the budget narrative aligns with the project narrative. The budget narrative will be considered by reviewers in assessing the applicant's submission, along with the materials in the project narrative. Questions to address in the budget narrative include: What resources or technologies are needed to successfully carry out and manage the project? What other resources are available from the organization? Will new staff be recruited? Will outside consultants be required?

3. For any outside consultants, include the total cost broken down by activity.

Multi-Year Project Requirements

Applications must include a brief project narrative and budget (one additional page per year) addressing the developmental plans for each additional year of the project. This attachment will not count as part of the project narrative or the budget narrative.

Additional documents can be uploaded as Other Attachments in Grants.gov. These can include:

• Proposed work plan and timeline for proposed objectives.

• Position descriptions for key staff.

• Resumes of key staff that reflect current duties.

• Consultant or contractor proposed scope of work and letter of commitment (if applicable).

• Current Indirect Cost Rate Agreement.

• Organizational chart.

• Map of area identifying project location(s).

• Additional documents to support narrative (i.e., data tables, key news articles, etc.).

2. Review and Selection

Each application will be pre-screened for eligibility and completeness as outlined in the funding announcement. Applications that meet the eligibility criteria shall be reviewed for merit by the Objective Review Committee (ORC) based on the evaluation criteria. Incomplete applications and applications that are not responsive to the administrative thresholds (budget limit, period of performance limit) will not be referred to the ORC and will not be funded. The program office will notify the applicant of this determination.

Applicants must address all program requirements and provide all required documentation.

3. Notifications of Disposition

All applicants will receive an Executive Summary Statement from the IHS Division of Behavioral Health within 30 days of the conclusion of the ORC outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, the budget period, and period of performance. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2020-title45-vol1/pdf/CFR-2020-title45-vol1-part75.pdf.

• Please review all HHS regulatory provisions for Termination at 45 CFR 75.372, at https://www.ecfr.gov/cgi-bin/retrieveECFR?gp&amp;SID=2970eec67399fab1413ede53d7895d99&amp;mc=true&amp;n=pt45.1.75&amp;r=PART&amp;ty=HTML&amp;se45.1.75_1372#se45.1.75_1372.

C. Grants Policy:

• HHS Grants Policy Statement, Revised January 2007, at https://www.hhs.gov/sites/default/files/grants/grants/policies-regulations/hhsgps107.pdf.

D. Cost Principles:

• Uniform Administrative Requirements for HHS Awards, “Cost Principles,” located at 45 CFR part 75 subpart E.

E. Audit Requirements:

• Uniform Administrative Requirements for HHS Awards, “Audit Requirements,” located at 45 CFR part 75 subpart F.

F. As of August 13, 2020, 2 CFR 200 was updated to include a prohibition on certain telecommunications and video surveillance services or equipment. This prohibition is described in 2 CFR 200.216. This will also be described in the terms and conditions of every IHS grant and cooperative agreement awarded on or after August 13, 2020.

2. Indirect Costs

This section applies to all recipients that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Per 45 CFR 75.414(f) Indirect (F&A) costs, “any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.”

Electing to charge a de minimis rate of 10 percent only applies to applicants that have never received an approved negotiated indirect cost rate from HHS or another cognizant federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS grantees are negotiated with the Division of Cost Allocation at https://rates.psc.gov/ or the Department of the Interior (Interior Business Center) at https://ibc.doi.gov/ICS/tribal. For questions regarding the indirect cost policy, please call the Grants Management Specialist listed under “Agency Contacts” or write to DGM@ihs.gov.

3. Reporting Requirements

The awardee must submit required reports consistent with the applicable deadlines. Failure to submit required reports within the time allowed may result in suspension or termination of an active grant, withholding of additional awards for the project, or other enforcement actions such as withholding of payments or converting to the reimbursement method of payment. Continued failure to submit required reports may result in the imposition of special award provisions, and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required semi-annually. The progress reports are due within 30 days after the reporting period ends (specific dates will be listed in the NoA Terms and Conditions). These reports will include a brief comparison of actual accomplishments to the goals established for the period (based on the data collected under Section V.1.D.), a summary of progress to date or, if applicable, provide sound justification for the lack of progress, and other pertinent information as required by the data analyses. A final report must be submitted within 90 days of expiration of the period of performance.

B. Financial Reports

Federal Financial Reports are due 30 days after the end of each budget period, and a final report is due 90 days after the end of the period of performance.

Awardees are responsible and accountable for reporting accurate information on all required reports: the Progress Reports and the Federal Financial Report.

C. Data Collection and Reporting

All awardees will be required to collect and report data pertaining to activities, processes, and outcomes. The IHS will identify a Tribal Epidemiology Center that will provide additional guidance on data collection and reporting for evaluation purposes. Programmatic reporting must be submitted within 30 days after the budget period ends for each project year (specific dates will be listed in the NoA Terms and Conditions). Reporting items that are not evaluation related will be submitted via GrantSolutions. Technical assistance for web-based data entry will be timely and readily available to awardees by assigned DBH staff. Awardees are responsible and accountable for accurate information being submitted by required due dates for Data Collection and Reporting.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period. For the full IHS award term implementing this requirement and additional award applicability information, visit the DGM Grants Management website at https://www.ihs.gov/dgm/policytopics/.

E. Non-Discrimination Legal Requirements for Awardees of Federal Financial Assistance

Should you successfully compete for an award, recipients of Federal financial assistance (FFA) from HHS must administer their programs in compliance with Federal civil rights laws that prohibit discrimination on the basis of race, color, national origin, disability, age and, in some circumstances, religion, conscience, and sex (including gender identity, sexual orientation, and pregnancy). This includes ensuring programs are accessible to persons with limited English proficiency and persons with disabilities. The HHS Office for Civil Rights provides guidance on complying with civil rights laws enforced by HHS. Please see https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/civil-rights/for-individuals/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

F. Federal Awardee Performance and Integrity Information System (FAPIIS)

The IHS is required to review and consider any information about the applicant that is in the FAPIIS at https://www.fapiis.gov/fapiis/#/home before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and awardees must disclose in writing, in a timely manner, to the IHS and to the HHS Office of Inspector General all information related to violations of Federal criminal law involving fraud, bribery, or gratuity violations potentially affecting the Federal award. 45 CFR 75.113. Disclosures must be sent in writing to:

U.S. Department of Health and Human Services, Indian Health Service, Division of Grants Management, ATTN: Marsha Brookins, Director, 5600 Fishers Lane, Mail Stop: 09E70, Rockville, MD 20857, (Include “Mandatory Grant Disclosures” in subject line), Office: (301) 443-4750, Fax: (301) 594-0899, Email: DGM@ihs.gov.

AND

U.S. Department of Health and Human Services, Office of Inspector General, ATTN: Mandatory Grant Disclosures, Intake Coordinator, 330 Independence Avenue SW, Cohen Building, Room 5527, Washington, DC 20201, URL: https://oig.hhs.gov/fraud/report-fraud/, (Include “Mandatory Grant Disclosures” in subject line), Fax: (202) 205-0604 (Include “Mandatory Grant Disclosures” in subject line) or Email: MandatoryGranteeDisclosures@oig.hhs.gov.

Failure to make required disclosures can result in any of the remedies described in 45 CFR 75.371 Remedies for noncompliance, including suspension or debarment (see 2 CFR part 180 and 2 CFR part 376).

VII. Agency Contacts

1. Questions on the programmatic issues may be directed to: JB Kinlacheeny, Public Health Advisor, Indian Health Service, Division of Behavioral Health, 5600 Fishers Lane, Mail Stop: 0834NB, Rockville, MD 20857, Phone: (301) 443-0104, Email: JB.Kinlacheeny@ihs.gov.

2. Questions on grants management and fiscal matters may be directed to: Sheila Miller, Grants Management Specialist, Indian Health Service, Division of Grants Management, 5600 Fishers Lane, Mail Stop: 09E70, Rockville, MD 20857, Phone: (240) 535-9308, Fax: (301) 594-0899, Email: Sheila.Miller@ihs.gov.

3. Questions on systems matters may be directed to: Paul Gettys, Deputy Director, Indian Health Service, Division of Grants Management, 5600 Fishers Lane, Mail Stop: 09E70, Rockville, MD 20857, Phone: (301) 443-2114, Email: Paul.Gettys@ihs.gov.

VIII. Other Information

The Public Health Service strongly encourages all grant, cooperative agreement, and contract awardees to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Elizabeth A. Fowler,
Acting Director, Indian Health Service.

[FR Doc. 2022-15520 Filed 7-20-22; 8:45 am]

BILLING CODE 4165-16-P